DEPARTMENT OF COMMERCE

National Oceanic and Atmospheric Administration

RIN 0648-XE201

Notice of Availability of an Alabama Trustee Implementation Group (Alabama TIG) Draft Recreational Use Restoration Plan I and Draft Environmental Impact Statement: Provide and Enhance Recreational Opportunities (RP/EIS)

AGENCY: National Marine Fisheries Service (NMFS), National Oceanic and Atmospheric Administration (NOAA), Commerce.

ACTION: Notice of availability; request for comments.

SUMMARY: In accordance with the Oil Pollution Act of 1990 (OPA) and the National Environmental Policy Act (NEPA), the Deepwater Horizon Federal and State natural resource trustee agencies for the Alabama Trustee Implementation Group (Alabama TIG) have prepared a Draft Recreational Use Restoration Plan I and Draft Environmental Impact Statement: Provide and Enhance Recreational Opportunities (Draft RP/EIS). The Draft RP/EIS describes the restoration project alternatives considered by the Alabama TIG to compensate for recreational shoreline use lost as a result of the Deepwater Horizon oil spill. The Alabama TIG evaluated these alternatives under criteria set forth in the OPA natural resource damage assessment regulations and evaluated the environmental consequences of the restoration alternatives in accordance with NEPA. The purpose of this notice is to inform the public of the availability of the Draft RP/EIS and to seek public comments on the document.

DATES: The Alabama TIG will consider public comments received on or before January 30, 2017.

Public Meetings: The Alabama TIG will host two public meetings to facilitate public review and comment on the Draft RP/EIS. Both written and verbal public comments will be taken at each public meeting. The Alabama TIG will hold an open house for each meeting followed by a formal meeting where the Alabama TIG will take verbal public comments. Each public meeting will include a presentation of the Draft RP/EIS. Public meetings will be held on January 17 and 18, 2017. The full public meeting schedule is listed in the SUPPLEMENTARY INFORMATION section.

ADDRESSES:

Obtaining Documents: You may download the Draft RP/EIS at http://www.gulfspillrestoration.noaa.gov. Alternatively, you may request a CD of the Draft RP/EIS (see FOR FURTHER INFORMATION CONTACT). You may also view the document at any of the public facilities listed at http://www.gulfspillrestoration.noaa.gov.

Submitting Comments: You may submit comments on the Draft RP/EIS by one of following methods:

• Via the Web: http://www.gulfspillrestoration.noaa.gov or

• U.S. Mail: NOAA Gulf of Mexico Disaster Response Center; attn: Alabama Recreational Use Restoration Plan; 7344 Zeigler Blvd.; Mobile, AL 36608. Please note that mailed comments must be postmarked on or before the comment deadline of January 30, 2017 to be considered.

FOR FURTHER INFORMATION CONTACT:

• NOAA—Dan Van Nostrand, dan.van-nostrand@noaa.gov.

• AL—Amy Hunter, amy.hunter@dcnr.alabama.gov.

SUPPLEMENTARY INFORMATION:

Introduction

On April 20, 2010, the mobile offshore drilling unit Deepwater Horizon, which was being used to drill a well for BP Exploration and Production Inc. (BP), in the Macondo prospect (Mississippi Canyon 252—MC252), exploded, caught fire and subsequently sank in the Gulf of Mexico, resulting in an unprecedented volume of oil and other discharges from the rig and from the wellhead on the seabed. The Deepwater Horizon oil spill is the largest oil spill in U.S. history, discharging millions of barrels of oil over a period of 87 days. In addition, well over one million gallons of dispersants were applied to the waters of the spill area in an attempt to disperse the spilled oil. An undetermined amount of natural gas was also released to the environment as a result of the spill.

The Deepwater Horizon State and Federal natural resource trustees (DWH Trustees) conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service (NPS), U.S. Fish and Wildlife Service (FWS), and Bureau of Land Management (BLM);

• National Oceanic and Atmospheric Administration (NOAA), on behalf of the U.S. Department of Commerce (DOC);

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas, Texas Parks and Wildlife Department, Texas General Land Office, and Texas Commission on Environmental Quality.

Upon completion of the NRDA, the DWH Trustees reached and finalized a settlement of their natural resource damage claims with BP in a Consent Decree ¹ approved by the United States District Court for the Eastern District of Louisiana. Pursuant to that Consent Decree, restoration projects in Alabama are now chosen and managed by the Alabama TIG. The Alabama TIG is composed of the following Trustees:

¹ https://www.justice.gov/enrd/file/838066/download.

• U.S. Department of the Interior (DOI), as represented by the National Park Service (NPS), U.S. Fish and Wildlife Service (FWS), and Bureau of Land Management (BLM);

• National Oceanic and Atmospheric Administration (NOAA), on behalf of the U.S. Department of Commerce (DOC);

• U.S. Department of Agriculture (USDA);

• U.S. Environmental Protection Agency (EPA);

• State of Alabama Department of Conservation and Natural Resources; and

• Geological Survey of Alabama.

This restoration planning activity is proceeding in accordance with the Deepwater Horizon Oil Spill: Final Programmatic Damage Assessment and Restoration Plan (PDARP) and Final Programmatic Environmental Impact Statement (PEIS). Information on the Restoration Type: Provide and Enhance Recreational Opportunities, as well as the OPA criteria against which project ideas are being evaluated, can be found in the PDARP/PEIS (http://www.gulfspillrestoration.noaa.gov/restoration-planning/gulf-plan) and in the Overview of the PDARP/PEIS (http://www.gulfspillrestoration.noaa.gov/restoration-planning/gulf-plan).

This restoration planning activity is occurring, in part, in accordance with the February 16, 2016, decision in Gulf Restoration Network v. Jewell, Case 1:15-cv-00191-CB-C (S.D. Ala.), in which the court enjoined the use of Deepwater Horizon early restoration that had been allocated to partially fund construction of a lodge and conference center at Alabama's Gulf State Park (GSP) as part of the GSP Enhancement Project, pending additional analysis under NEPA and OPA. This restoration planning activity fulfills the Federal and State natural resources trustees' responsibilities under this court order while looking more broadly at the potential to provide restoration for lost recreational shoreline use within Alabama.

Background

On July 6, 2016, the Alabama TIG initiated a 30-day formal scoping and public comment period for this Draft RP/EIS (81 FR 44007-44008) through a Notice of Intent to Prepare a RP/EIS, and to Conduct Scoping. The Trustees conducted the scoping in accordance with OPA (15 CFR 990.14(d)), NEPA (40 CFR 1501.7), and State authorities. That NOI requested public input to identify and evaluate a range of restoration types that could be used to compensate the public for lost recreational use opportunities in Alabama caused by the Deepwater Horizon oil spill in the Gulf of Mexico.

Overview of the Draft RP/EIS

The Draft RP/EIS is being released in accordance with the OPA, NRDA regulations found in the Code of Federal Regulations (CFR) at 15 CFR part 990, and the NEPA (42 U.S.C. 4321 et seq.).

In the Draft RP/EIS, the Alabama TIG presents to the public their plan for compensating for lost recreational shoreline use in Alabama. The Draft RP/EIS proposes ten individual restoration alternatives, including a no action alternative, evaluated in accordance with OPA and NEPA. One or more may be selected for implementation to compensate for lost recreational shoreline use as a result of the Deepwater Horizon oil spill.

The ten alternatives under the Draft RP/EIS are as follows:

• Alternative 1 (Preferred Alternative): Gulf State Park Lodge and Associated Public Access Amenities

• Alternative 2 (Preferred Alternative): Fort Morgan Pier Rehabilitation

• Alternative 3: Fort Morgan Peninsula Public Access Improvements

• Alternative 4: Gulf Highlands Land Acquisition and Improvements

• Alternative 5: (Preferred Alternative) Laguna Cove Little Lagoon Natural Resource Protection

• Alternative 6 (Preferred Alternative): Bayfront Park Restoration and Improvements

• Alternative 7 (Preferred Alternative): Dauphin Island Eco-Tourism and Environmental Education Area

• Alternative 8: Mid-Island Parks and Public Beach Improvements (Parcels A, B, and C)

• Alternative 9: (Preferred Alternative): Mid-Island Parks and Public Beach Improvements (Parcels B and C)

• Alternative 10: No Action/Natural Recovery

The Alabama TIG has examined and assessed the extent of injury and the restoration alternatives. In the Draft RP/EIS, the Alabama TIG presents to the public their plan for providing partial compensation to the public for lost recreational use in Alabama. In particular, it considers restoration approaches to help restore, replace, rehabilitate, or acquire the equivalent of the lost recreational shoreline use in Alabama. The Alabama TIG believes that the preferred alternatives in this Draft RP/EIS are most appropriate for addressing lost recreational shoreline use in Alabama at this time. Additional restoration planning for lost recreational use in Alabama will occur at a later time.

Next Steps

The public is encouraged to review and comment on the Draft RP/EIS. As described above, public meetings are scheduled to facilitate the public review and comment process. After the close of the public comment period, the Alabama TIG will consider and address the comments received before issuing a Final RP/EIS. A summary of comments received, the Alabama TIG's responses, and any revisions to the document, as appropriate, will be included in the final document. After issuing the Final RP/EIS, the Alabama TIG will prepare a Record of Decision that formally selects the restoration project alternatives.

Public Meeting Schedule
Date | Time (local times) | Location
January 17, 2017 | 6 p.m. Open House 6:30 p.m. Public Meeting. | Shelby Auditorium, Shelby Fisheries Center, Dauphin Island Sea Lab, 101 Bienville Boulevard, Dauphin Island, AL 36528.
January 18, 2017 | 6 p.m. Open House 6:30 p.m. Public Meeting. | Erie H. Meyer Civic Center, 1930 W. 2nd Street, Gulf Shores, AL 36542.

Invitation to Comment

The Alabama TIG seeks public review and comment on the Draft RP/EIS. Before including your address, phone number, email address, or other personal identifying information in your comment, you should be aware that your entire comment, including your personal identifying information, may be publicly available at any time.

Administrative Record

The documents included in the Administrative Record can be viewed electronically at the following location: http://www.doi.gov/deepwaterhorizon/adminrecord.

Authority

The authority of this action is the OPA of 1990 (33 U.S.C. 2701 et seq.) and the implementing NRDA regulations found at 15 CFR part 990.

Dated: December 8, 2016.
Carrie Selberg,
Deputy Director, Office of Habitat Conservation, National Marine Fisheries Service.

[FR Doc. 2016-29952 Filed 12-15-16; 8:45 am]

BILLING CODE 3510-22-P